INTERNATIONAL TRADE COMMISSION

[Investigation No. 731-TA-747 (Fourth Review)]

Fresh Tomatoes From Mexico; Revised Schedule for Full Five-Year Review

AGENCY: United States International Trade Commission.

ACTION: Notice.

DATES: February 22, 2019.

FOR FURTHER INFORMATION CONTACT: Amelia Shister (202-205-2047), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On October 1, 2018, the Commission established a schedule for the conduct of the full five-year review (83 FR 50408, October 5, 2018). Due to the lapse in appropriations and ensuing cessation of Commission operations, the Commission is revising its schedule. On February 6, 2019, the U.S. Department of Commerce notified the Commission of its intent to “withdraw from the 2013 Suspension Agreement on Fresh Tomatoes from Mexico (Agreement), effective May 7, 2019.” However, until the Agreement is terminated, there is no provision in the law for the Commission to terminate its five-year review and, due to the proximity of this notice to the Commission's statutory deadline, it must proceed with conducting its five-year review.

The Commission's revised dates in the schedule are as follows: The prehearing staff report will be placed in the nonpublic record on March 4, 2019; the deadline for filing prehearing briefs is March 13, 2019; requests to appear at the hearing must be filed with the Secretary to the Commission not later than March 14, 2019; the prehearing conference will be held at the U.S. International Trade Commission Building on March 18, 2019, if deemed necessary; the hearing will be held at the U.S. International Trade Commission Building at 9:30 a.m. on March 21, 2019; the deadline for filing posthearing briefs and for written statements from any person who has not entered an appearance as a party is March 29, 2019; the Commission will make its final release of information on April 26, 2019; and final party comments are due on May 1, 2019.

For further information concerning this proceeding see the Commission's notice cited above and the Commission's Rules of Practice and Procedure, part 201, subparts A through E (19 CFR part 201), and part 207, subparts A, D, E, and F (19 CFR part 207).

Authority: This review is being conducted under authority of title VII of the Tariff Act of 1930; this notice is published pursuant to section 207.62 of the Commission's rules.

By order of the Commission.
Issued: February 22, 2019.
Lisa Barton,
Secretary to the Commission.

[FR Doc. 2019-03476 Filed 2-27-19; 8:45 am]

BILLING CODE 7020-02-P